DEPARTMENT OF THE INTERIOR

Bureau of Land Management

[AK-910-02-1410-PG]

Alaska Resource Advisory Council; Notice of Meeting

AGENCY: Bureau of Land Management (BLM), Alaska State Office, Interior.

ACTION: Notice of meeting locations and times for the Alaska Resource Advisory Council.

SUMMARY: The Bureau of Land Management's Alaska Resource Advisory Council will meet April 25-26, 2002, and October 15-16, 2002.

The April 25-26 meeting will be held at the BLM Northern Field Office, located at 1150 University Avenue in Fairbanks. The October 15-16 meeting will be held at the Anchorage Federal Building, located at 222 W. 7th Avenue. Both meetings will start at 8:30 a.m. each morning and will run until 4 p.m. on day one and until noon on day two. All meetings are open to the public. Members of the public may present written and/or oral comments to the council at 1 p.m. on the first day of each meeting.

Primary agenda items for both meetings include land use planning starts in Alaska and results of scoping for the northwest National Petroleum Reserve—Alaska and Colville River multiple use activity plans.

SUPPLEMENTARY INFORMATION: The Alaska Resource Advisory Council meets in accordance with the Federal Land Policy and Management Act and the Federal Advisory Committee Act of 1972.

Inquiries or comments should be sent to BLM External Affairs, 222 W. 7th Avenue, #13, Anchorage, AK 99513-7599.

FOR FURTHER INFORMATION CONTACT: Teresa McPherson, (907) 271-3322 or E-mail TeresA_McPherson@ak.blm.gov.

Dated: February 26, 2002.
Linda S.C. Rundell,
Associate State Director.

[FR Doc. 02-7838 Filed 4-1-02; 8:45 am]

BILLING CODE 4310-JA-P